DEPARTMENT OF JUSTICE

Notice of Lodging of Proposed Consent Decree Under the Comprehensive Environmental Response, Compensation, and Liability Act

On July 23, 2021, the United States lodged a proposed consent decree with the United States District Court for the Northern District of Illinois in the lawsuit entitled United States v. Chains and Links, Inc. et al., Case No. 3:18-cv-50268 (N.D. Ill.). The proposed consent decree, if approved by the Court after public comment, will fully resolve claims of the United States Environmental Protection Agency (“EPA”) against the two remaining defendants named in the complaint, which seeks to recover response costs incurred by EPA in cleaning up a portion of the Bautsch Gray Mine Superfund site (“Site”) near Galena, Illinois. Under a prior consent decree, which was approved by the Court in May, EPA will recover $1.292 million in response costs over an 18-month period. Under the proposed consent decree, the settling defendants—West Galena Development, Inc. (“WGD”) and the Estate of Lois Jean Wienen (“Estate”)—will reimburse the United States for $1.25 million in response costs, bringing our total recovery in this action to $2.542 million.

The United States brought this action in 2016 asserting claims under Sections 106, 107, and 113(g)(2) of the Comprehensive Environmental Response, Compensation, and Liability Act (“CERCLA”), 42 U.S.C. 9606, 9607(a), and 9613(g)(2). To resolves these claims, WGD and the Estate will not only reimburse the United States for response costs, but also undertake limited activities with respect to a portion of the Site that is jointly owned by WGD and one of the prior settling defendants. WGD and the Estate, for instance, must provide EPA and its contractors with access to the property and must cooperate with the prior-settling defendants in executing an environmental covenant that will give EPA enforcement rights relating to the property. If the property is sold in the future at a price that reflects the value of the property after it has been cleaned up in accordance with the EPA-selected remedy for the Site, EPA will receive 75% of the net proceeds from the sale. Finally, the proposed consent decree resolves a counterclaim asserted by WGD for breach of contract and relief under the Administrative Procedures Act.

The publication of this notice opens a period for public comment on the proposed consent decree. Comments should be addressed to the Acting Assistant Attorney General, Environment and Natural Resources Division, and should refer to United States v. Chains and Links, Inc. et al., D.J. Ref. No. 90-11-3-10235. All comments must be submitted no later than thirty (30) days after the publication date of this revised notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the proposed consent decree may be examined and downloaded at this Justice Department website: https://www.justice.gov/enrd/consent-decrees. We will also provide a paper copy of the proposed consent decree upon written request and payment of reproduction costs. Please mail your request and payment to: Consent Decree Library, U.S. DOJ—ENRD, P.O. Box 7611, Washington, DC 20044-7611.

Please enclose a check or money order for $17.25 (69 pages at 25 cents per page reproduction cost) payable to the United States Treasury. For a paper copy without the appendices and signature pages, the cost is $8.

Patricia McKenna,
Assistant Section Chief, Environmental Enforcement Section, Environment and Natural Resources Division.

[FR Doc. 2021-16520 Filed 8-2-21; 8:45 am]

BILLING CODE 4410-15-P